DEPARTMENT OF COMMERCE

International Trade Administration

Meeting of the United States Travel and Tourism Advisory Board

AGENCY: International Trade Administration, U.S. Department of Commerce.

ACTION: Notice of an open meeting.

SUMMARY: The Department of Commerce is currently in the process of renewing the charter of the United States Travel and Tourism Advisory Board (Board or TTAB) for an addition two-year term. In anticipation of and conditioned upon the renewed charter taking effect on or before September 6, 2017, the Department is announcing the intent to hold a meeting of the Board on Wednesday, September 6, 2017. The Board advises the Secretary of Commerce on matters relating to the U.S. travel and tourism industry. The purpose of the meeting is for Board members to discuss their recent recommendations adopted at the June 28, 2017 meeting with the Secretary of Commerce and receive direction for next steps. The recommendations address how to confer a competitive advantage to U.S. tourism interests in the areas of international travel and tourism; global competitiveness; and public-private partnerships that foster a welcoming destination. The full recommendations are available on the Department of Commerce Web site for the Board at http://trade.gov/ttab. The final agenda will be posted on that Web site at least one week in advance of the meeting.

DATES: Wednesday, September 6, 2017, 2:00 p.m.-3:30 p.m. EDT. The deadline for members of the public to register, including requests to make comments during the meeting and for auxiliary aids, or to submit written comments for dissemination prior to the meeting, is 5:00 p.m. EDT on Wednesday, August 30, 2017.

ADDRESSES: The meeting will be held in Washington, DC. The exact location will be provided by email to registrants.

Requests to register (including to speak or for auxiliary aids) and any written comments should be submitted to: National Travel and Tourism Office, U.S. Department of Commerce, 1401 Constitution Ave. NW., Room 10003, Washington, DC 20230 or by email to TTAB@trade.gov. Members of the public are encouraged to submit registration requests and written comments via email to ensure timely receipt.

FOR FURTHER INFORMATION CONTACT: Brian Beall, the United States Travel and Tourism Advisory Board, National Travel and Tourism Office, U.S. Department of Commerce, 1401 Constitution Ave. NW., Room 10003, Washington, DC 20230; telephone: 202-482-5634; email: TTAB@trade.gov.

SUPPLEMENTARY INFORMATION: Background: The Board advises the Secretary of Commerce on matters relating to the U.S. travel and tourism industry.

Public Participation: The meeting will be open to the public and will be accessible to people with disabilities. Any member of the public requesting to join the meeting is asked to register in advance by the deadline identified under the DATES caption. Requests for auxiliary aids must be submitted by the registration deadline. Last minute requests will be accepted, but may not be possible to fill. There will be fifteen (15) minutes allotted for oral comments from members of the public joining the meeting. To accommodate as many speakers as possible, the time for public comments may be limited to three (3) minutes per person. Members of the public wishing to reserve speaking time during the meeting must submit a request at the time of registration, as well as the name and address of the proposed speaker. If the number of registrants requesting to make statements is greater than can be reasonably accommodated during the meeting, the International Trade Administration may conduct a lottery to determine the speakers. Speakers are requested to submit a written copy of their prepared remarks by 5:00 p.m. EDT on Wednesday, August 30, 2017, for inclusion in the meeting records and for circulation to the members of the Board.

In addition, any member of the public may submit pertinent written comments concerning the Board's affairs at any time before or after the meeting. Comments may be submitted to Brian Beall at the contact information indicated above. To be considered during the meeting, comments must be received no later than 5:00 p.m. EDT on Wednesday, August 30, 2017, to ensure transmission to the Board prior to the meeting. Comments received after that date and time will be distributed to the members but may not be considered during the meeting. Copies of Board meeting minutes will be available within 90 days of the meeting.

Dated: August 14, 2017.
Brian Beall,
Designated Federal Officer, United States Travel and Tourism Advisory Board.

[FR Doc. 2017-17555 Filed 8-18-17; 8:45 am]

BILLING CODE 3510-DR-P